OFFICE OF GOVERNMENT ETHICS

5 CFR Part 2634

RIN 3209-AA00

Technical Amendments to Qualified Trust Model Certificates Privacy and Paperwork Notices

AGENCY: Office of Government Ethics (OGE).

ACTION: Final rule; technical amendments.

SUMMARY: The Office of Government Ethics is revising the Privacy Act and Paperwork Reduction Act notices for the model qualified trust certificates of independence and compliance, as codified in an appendix to its executive branchwide financial disclosure regulations, to make a couple minor updating changes.

EFFECTIVE DATE: June 3, 2002.

FOR FURTHER INFORMATION CONTACT: William E. Gressman, Senior Associate General Counsel, Office of Government Ethics; Telephone: 202-208-8000, extension 1110; TDD: 202-208-8025; FAX: 202-208-8037.

SUPPLEMENTARY INFORMATION: In this rulemaking, OGE is making technical Privacy Act and paperwork-related revisions to appendix C of its executive branchwide financial disclosure regulation codified at 5 CFR part 2634. Appendix C sets forth the Privacy Act and Paperwork Reduction Act (public burden) notices for the certificates of independence and compliance (as themselves codified at appendixes A and B to part 2634) for qualified blind and qualified diversified trusts under the Ethics in Government Act of 1978, 5 U.S.C. appendix. First, OGE is adding the words “judge- issued” before the word “subpoena” in the routine use paraphrased in paragraph (3) of the Privacy Act Statement in appendix C order to more accurately reflect case law requirements for any such disclosures. The Office of Government Ethics is also working on a revised notice for its executive branchwide OGE/GOVT-1 system of records that will include a similar revision. Second, OGE is revising the Public Burden Information and Paperwork Reduction Act Statement in appendix C to indicate the current title of the OGE official to contact for any paperwork comments, the Deputy Director for Administration and Information Management. These changes were included in the recent three-year paperwork renewal OGE received from the Office of Management and Budget for the model certificates and ten other uncodified model trust documents.

Matters of Regulatory Procedure

Administrative Procedure Act

Pursuant to 5 U.S.C. 553(b) and (d), as Director of the Office of Government Ethics, I find good cause exists for waiving the general notice of proposed rulemaking and the opportunity for public comment as to these revisions. The notice and comment are being waived because these technical amendments concern matters of agency organization, practice and procedure. Moreover, it is in the public interest that these updating technical revisions take effect promptly.

Executive Order 12866

In promulgating these technical amendments to appendix C to the branchwide financial disclosure regulations, OGE has adhered to the regulatory philosophy and the applicable principles of regulation set forth in section 1 of Executive Order 12866, Regulatory Planning and Review. These amendments have not been reviewed by the Office of Management and Budget under the Executive order, since they are not deemed “significant” thereunder.

Executive Order 12988

As Director of the Office of Government Ethics, I have reviewed this final amendatory regulation in light of section 3 of Executive Order 12988, Civil Justice Reform, and certify that it meets the applicable standards provided therein.

Regulatory Flexibility Act

As Director of the Office of Government Ethics, I certify under the Regulatory Flexibility Act (5 U.S.C. chapter 6) that this rulemaking will not have a significant economic impact on a substantial number of small entities because it primarily affects high-level Federal executive branch officials who seek OGE approval for the creation of Ethics Act-qualified blind and diversified trusts and their trust fiduciaries.

Paperwork Reduction Act

The certificates of independence and compliance are information collections within the scope of the Paperwork Reduction Act (44 U.S.C. chapter 35). As noted above, the Office of Management and Budget recently granted its paperwork approval for a period of three years for the certificates as codified in appendixes A, B and C to 5 CFR part 2634, with only the latter procedural appendix C being amended in this rulemaking document.

Unfunded Mandates Reform Act

For purposes of the Unfunded Mandates Reform Act of 1995 (2 U.S.C. chapter 25, subchapter II), this rule will not significantly or uniquely affect small governments and will not result in increased expenditures by State, local, and tribal governments, in the aggregate, or by the private sector, of $100 million or more (as adjusted for inflation) in any one year.

Congressional Review Act

The Office of Government Ethics has determined that this amendatory rulemaking is a nonmajor rule under the Congressional Review Act (5 U.S.C. chapter 8) and has submitted a report thereon to the United States Senate, House of Representatives and General Accounting Office in accordance with that law.

List of Subjects in 5 CFR Part 2634

Certificates of divestiture, Conflict of interests, Financial disclosure, Government employees, Penalties, Privacy, Reporting and recordkeeping requirements, Trusts and trustees.

Approved: April 29, 2002.
Amy L. Comstock,
Director, Office of Government Ethics.

For the reasons set forth in the preamble, the Office of Government Ethics is amending 5 CFR part 2634 as follows:

PART 2634—[AMENDED]

1. The authority citation for part 2634 continues to read as follows:

Authority: 5 U.S.C. App. (Ethics in Government Act of 1978); 26 U.S.C. 1043; Pub. L. 101-410, 104 Stat. 890, 28 U.S.C.

2461 note (Federal Civil Penalties Inflation Adjustment Act of 1990), as amended by Sec. 31001, Pub. L. 104-134, 110 Stat. 1321 (Debt Collection Improvement Act of 1996); E.O. 12674, 54 FR 15159, 3 CFR, 1989 Comp., p. 215, as modified by E.O. 12731, 55 FR 42547, 3 CFR, 1990 Comp., p. 306.

Appendix C to Part 2634—[Amended]

2. Appendix C to part 2634 is amended by adding the words “judge-issued” before the word “subpoena” in the paragraph numbered (3) of the Privacy Act Statement, and by removing the words “Associate Director for Administration” from the second sentence of the first paragraph of the Public Burden Information and Paperwork Reduction Act Statement and adding in their place the words “Deputy Director for Administration and Information Management”.

[FR Doc. 02-11025 Filed 5-2-02; 8:45 am]

BILLING CODE 6345-01-P